DEPARTMENT OF COMMERCE

National Oceanic and Atmospheric Administration

[I.D. 110404A]

Marine Mammals; File No. 1033-1683-00

AGENCY: National Marine Fisheries Service (NMFS), National Oceanic and Atmospheric Administration (NOAA), Commerce.

ACTION: Receipt of application for amendment.

SUMMARY: Notice is hereby given that Michael A. Castellini, Ph.D., Institute of Marine Science, School of Fisheries and Ocean Sciences, University of Alaska, Fairbanks, AK 99775, has requested an amendment to scientific research Permit No. 1033-1683-00.

DATES: Written, telefaxed, or e-mail comments must be received on or before December 9, 2004.

ADDRESSES: The amendment request and related documents are available for review upon written request or by appointment in the following office(s):

Permits, Conservation and Education Division, Office of Protected Resources, NMFS, 1315 East-West Highway, Room 13705, Silver Spring, MD 20910; phone (301)713-2289; fax (301)713-0376.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 1033-1683-01.

FOR FURTHER INFORMATION CONTACT: Ruth Johnson or Amy Sloan (301)713-2289.

SUPPLEMENTARY INFORMATION: The subject amendment to Permit No. 1033-1683-00, issued on September 25, 2002 (67 FR 62699) is requested under the authority of the Marine Mammal Protection Act of 1972, as amended (16 U.S.C. 1361 et seq.) and the Regulations Governing the Taking and Importing of Marine Mammals (50 CFR part 216).

Permit No. 1033-1683-00 authorizes the permit holder to capture, sample, instrument and release Weddell seals, incidentally harass crabeater seal (Lobodon carcinophagus), leopard seal (Hydrurga leptonyx), Ross seal (Ommatophoca rossii), southern elephant seal (Mirounga leonina), and Antarctic fur seal (Archtocephalus gazella), and import blood, feces and milk collected during research. The permit holder requests authorization to: capture 20 additional adult Weddell seals (10 inshore, 10 offshore), handle, blood sample, collect a whisker and hair sample; and collect a whisker and hair sample from adult female seals already authorized to be taken. These activities will provide information of the effects of the Antarctic ecosystem changes on seals.

Concurrent with the publication of this notice in the Federal Register, NMFS is forwarding copies of this application to the Marine Mammal Commission and its Committee of Scientific Advisors.

Dated: November 4, 2004.
Jill Lewandowski,
Acting Chief, Permits, Conservation and Education Division, Office of Protected Resources, National Marine Fisheries Service.

[FR Doc. 04-24954 Filed 11-8-04; 8:45 am]

BILLING CODE 3510-22-S